DEPARTMENT OF COMMERCE

National Oceanic and Atmospheric Administration

[RTID 0648-XC561]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet December 5, 2022, through December 14, 2022.

DATES: The meetings will be held Monday, December 5, 2022, through Wednesday, December 14, 2022.

ADDRESSES: The meetings will be a hybrid conference. The in-person component of the meeting will be held at the Hilton Hotel, 500 W 3rd Ave, Anchorage, AK 99501, or join the meeting online through the links at https://www.npfmc.org/upcoming-council-meetings.

Council address: North Pacific Fishery Management Council, 1007 W 3rd Ave, Anchorage, AK 99501-2252; telephone: (907) 271-2809. Instructions for attending the meeting via web conference are given under Connection Information below.

FOR FURTHER INFORMATION CONTACT: Diana Evans, Council staff; email: diana.evans@noaa.gov; telephone: (907) 271-2809. For technical support, please contact our Council administrative staff, email: npfmc.admin@noaa.gov.

SUPPLEMENTARY INFORMATION: The Council's Scientific and Statistical Committee (SSC) will begin at 8 a.m. in the Aleutian room on Monday, December 5, 2022, and continue through Wednesday, December 7, 2022. The Council's Advisory Panel (AP) will begin at 8 a.m. in the Denali room on Tuesday, December 6, 2022, and continue through Friday, December 9, 2022. The Council will begin at 8 a.m. in the Aleutian room on Thursday, December 8, 2022, and continue through Wednesday, December 14, 2022. The Bering Sea FEP LKTK Subsistence Taskforce (LKTKS) will meet on Monday, December 5, 2022, from 8:30 a.m. to 5 p.m. in the Denali room. The Charter Halibut Committee will meet Wednesday, December 7, 2022, from 8 a.m. to 1 p.m. at the North Pacific Fishery Management Council's Conference Room; 1007 W 3rd Ave, Suite 400, Anchorage, AK 99501-2252. All times listed are Alaska Time.

Agenda

Monday, December 5, 2022, Through Wednesday, December 7, 2022

The SSC agenda will include the following issues:

(1) Administrative Issues;

(2) Snow crab rebuilding analysis—Initial Review;

(3) Bering Sea Aleutian Islands (BSAI) Groundfish—(a) Bering Sea (BS) and Aleutian Islands (AI) Ecosystem Status Reports, (b) Stock Assessment and Fishery Evaluation (SAFE) report, (c) adopt Acceptable Biological Catch (ABC)/Over Fishing Limits (OFLs); (d) Plan Team report;

(4) Gulf of Alaska (GOA) Groundfish—(a) GOA Ecosystem Status Report, (b) SAFE report, (c) adopt ABC/OFLs, (d) Plan Team report.

The agenda is subject to change, and the latest version will be posted at https://meetings.npfmc.org/Meeting/Details/2963 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the Office of Management and Budget (OMB) Peer Review Bulletin guidelines.

Tuesday, December 6, 2022, Through Friday, December 9, 2022

The Advisory Panel agenda will include the following issues:

(1) Administrative Issues;

(2) Snow crab rebuilding analysis—Initial Review;

(3) Cook Inlet Salmon Fishery Management Plan (FMP) amendment—Initial Review;

(4) Salmon bycatch: Review—(a) Salmon findings of State of Alaska Bycatch Taskforce; (b) Chum salmon bycatch discussion paper; (c) Salmon Bycatch Committee report;

(5) BSAI Groundfish—(a) BS and AI Ecosystem Status Reports, (b) SAFE report, (c) adopt ABC/OFLs; (d) Plan Team report;

(6) GOA Groundfish—(a) GOA Ecosystem Status Report, (b) SAFE report, (c) adopt ABC/OFLs, (d)Plan Team report;

(7) 2023 Charter halibut management measures—Final action;

(8) Staff Tasking.

The agenda is subject to change, and the latest version will be posted at https://meetings.npfmc.org/Meeting/Details/2964 prior to the meeting, along with meeting materials.

Thursday, December 8, 2022, Through Wednesday, December 14, 2022

The Council agenda will include the following issues. The Council may take appropriate action on any of the issues identified.

(1) B Reports (Executive Director, NMFS Management, NOAA General Counsel (GC), NOAA Enforcement Report, Alaska Department of Fish and Game (ADF&G), United States Coast Guard (USCG), United States Fish and Wildlife Service (USFWS), SSC report, AP report);

(2) Red King Crab Savings Area (RKCSA) emergency rule request—Review;

(3) Snow crab rebuilding analysis—Initial Review;

(4) Crab conservation workplan—Review;

(5) Cook Inlet Salmon FMP amendment—Initial Review;

(6) BSAI Groundfish—(a) BS and AI Ecosystem Status Reports, (b) SAFE report, (c) adopt ABC/OFLs; (d) Plan Team report;

(7) GOA Groundfish—(a) GOA Ecosystem Status Report, (b) SAFE report, (c) adopt ABC/OFLs, (d)Plan Team report;

(8) 2023 Charter halibut management measures—Final action;

(9) Salmon bycatch: Review—(a) Salmon findings of State of Alaska Bycatch Taskforce; (b) Chum salmon bycatch discussion paper; (c) Salmon Bycatch Committee report;

(10) Staff Tasking.

The agenda is subject to change, and the latest version will be posted at https://meetings.npfmc.org/Meeting/Details/2964 prior to the meeting, along with meeting materials.

Monday, December 5, 2022

The LKTKS Taskforce agenda will include (a) receive an overview of Taskforce work products, namely the LKTKS protocol which includes the primary guidelines and onramps for identifying, analyzing, and including LKTKS information and expertise in the Council's decision-making process; (b) further develop the protocol and recommendations for LKTKS onramps; (c) discuss the timeline for remaining work to meet the Council's objectives for the Taskforce; and (d) other business. The Agenda is subject to change, and the latest version will be posted at: https://meetings.npfmc.org/Meeting/Details/2954.

Wednesday, December 7, 2022

The Charter Halibut Committee agenda will include (a) begin with introductions (b) review the ADF&G analysis for 2023, (c) have a committee discussion, (d) have committee recommendations, (e) have an electronic logbook discussion, (f) discuss upcoming meetings and other business.

The agenda is subject to change, and the latest version will be posted at https://meetings.npfmc.org/Meeting/Details/2957 prior to the meeting, along with meeting materials.

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting to avoid any potential for technical difficulties to compromise oral testimony. The written comment period is open from November 18, 2022, to December 2, 2022, and closes at 12 p.m. Alaska Time on Friday, December 2, 2022.

Authority: 16 U.S.C. 1801 et seq.

Dated: November 15, 2022.
Diane M. DeJames-Daly,
Acting Deputy Director, Office of Sustainable Fisheries, National Marine Fisheries Service.

[FR Doc. 2022-25188 Filed 11-17-22; 8:45 am]

BILLING CODE 3510-22-P